NATIONAL SCIENCE FOUNDATION

Advisory Committee for Mathematical and Physical Sciences; Notice of Meeting

In accordance with the Federal Advisory Committee Act (Pub. L. 92-463, as amended), the National Science Foundation (NSF) announces the following meeting:

Name and Committee Code: Advisory Committee for Mathematical and Physical Sciences (#66).

Date and Time: May 2, 2019; 8:30 a.m. to 4:00 p.m. May 3, 2019; 8:30 a.m. to 12:30 p.m.

Place: NSF, 2415 Eisenhower Avenue, Alexandria, VA 22314.

Type of Meeting: Open.

Contact Person: Nadège Aoki, National Science Foundation, 2415 Eisenhower Avenue, Room C 9015B, Alexandria, Virginia 22314; Telephone: 703/292-4934.

Purpose of Meeting: To provide advice, recommendations and counsel on major goals and policies pertaining to MPS programs and activities.

Agenda

Thursday, May 2, 2019; 8:30 a.m. to 4:00 p.m.

• Presentation: Update on MPS Activities from Assistant Director Anne Kinney

• Presentation and Discussion: Joined session with OPP AC

• Presentation and Discussion: OLPA

• Presentation and Discussion: Update on Materials Decadal Survey and Spectrum Management

• Discussion with NSF COO

Friday, May 3, 2019; 8:30 a.m. to 12:30 p.m.

• Presentation and Discussion: Update on Quantum Leap Big Idea

• Presentation and Discussion: Synthetic Biology

• Discussion of MPS AC

Dated: March 22, 2019.
Crystal Robinson,
Committee Management Officer.

[FR Doc. 2019-05910 Filed 3-27-19; 8:45 am]

BILLING CODE 7555-01-P